DEPARTMENT OF HEALTH AND HUMAN SERVICES

Administration for Children and Families

[OMB No. 0970-0166]

Submission for OMB Review; National Directory of New Hires

AGENCY: Office of Child Support Enforcement, Administration for Children and Families, HHS.

ACTION: Request for public comment.

SUMMARY: The Office of Child Support Enforcement (OCSE), Administration for Children and Families (ACF), is requesting the federal Office of Management and Budget (OMB) to approve the National Directory of New Hires (NDNH), with minor changes to the Multistate Employer Registration form, for an additional three years. The current OMB approval expires July 31, 2022.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION: Description: The NDNH is a federally mandated repository of employment and wage information. The information maintained in the NDNH is collected electronically and is used for authorized purposes. State child support agencies use the NDNH information to locate a parent living or working in a different state and to take appropriate interstate actions to establish, modify, or enforce a child support order. NDNH information is also used for authorized purposes by specific state and federal agencies to help administer certain programs, prevent overpayments, detect fraud, assess benefits, and recover funds, as provided under 42 U.S.C. 653(i)(1).

Respondents: Employers, State Child Support Agencies, and State Workforce Agencies.

Annual Burden Estimates
Instrument | Total number of respondents | Total number of responses per respondent | Average annual burden hours per response | Total annual burden hours
New Hire: Employers Reporting Manually | 5,411,180 | 1.29 | .025 | 174,510.56
New Hire: Employers Reporting Electronically | 664,757 | 94.77 | .00028 | 17,639.73
New Hire: States | 54 | 129,629.63 | .017 | 119,000.00
Quarterly Wage (QW) & Unemployment Insurance (UI) | 53 | 28.00 | .00028 | 0.42
Multistate Employer Registration Form | 1,118 | 1.00 | .05 | 55.90

Estimated Total Annual Burden Hours: 311,207.

Authority: 42 U.S.C. 653A(b)(1)(A) and (B); 42 U.S.C. 653A(g)(2)(A); 26 U.S.C. 3304(a)(16)(B); 42 U.S.C. 503(h)(1)(A); and 42 U.S.C. 653A(g)(2)(B).

Mary B. Jones,
ACF/OPRE Certifying Officer.

[FR Doc. 2022-09461 Filed 5-2-22; 8:45 am]

BILLING CODE 4184-41-P